DEPARTMENT OF JUSTICE

[OMB Number 1140-0091]

Agency Information Collection Activities; Proposed eCollection eComments Requested; Title—National Response Team Customer Satisfaction Survey

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995.

DATES: ATF encourages comments on this information collection. You may submit written comments for 30 days, until midnight on March 23, 2026.

ADDRESSES: Submit written comments and recommendations for this information collection to the following website: www.reginfo.gov/public/do/PRAMain. Find this particular information collection by selecting “Currently under 30-day Review—Open for Public Comments” or by using the search function and entering either the title of the information collection or the OMB control number: 1140-0091.

FOR FURTHER INFORMATION CONTACT: If you have questions, or need a copy of the proposed information collection instrument with instructions or additional information, please contact: Jennifer George, NCETR, Fire Investigations and Arson Enforcement Division, either by mail at Corporal Road, Building 3750; Redstone Arsenal; Huntsville, AL 35898, by email at jennifer.george@atf.gov, or by telephone at 256-261-7614.

SUPPLEMENTARY INFORMATION: The proposed information collection was previously published in the Federal Register, 90 FR 54763, on November 28, 2025, allowing a 60-day comment period. We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

You may view this information collection request at www.reginfo.gov. Follow the instructions to view Department of Justice information collections currently under review by OMB and look for 1140-0091.

DOJ seeks PRA authorization for this information collection for three years. OMB authorization for an ICR cannot be for more than three years without renewal. DOJ notes that information collection requirements submitted to OMB for existing ICRs receive a month-to-month extension while they undergo review.

Overview of This Information Collection

1. Type of information collection: revising a previously approved collection.

2. Title of the form/collection: National Response Team Customer Satisfaction Survey.

3. Agency form number, if any, and the applicable component of the Department of Justice sponsoring the collection:

Form number: none.

Component: Bureau of Alcohol, Tobacco, Firearms, and Explosives; U.S. Department of Justice.

4. Affected public who will be asked or required to respond, as well as a brief abstract:

Affected public: state, local, and tribal governments.

Abstract: ATF requests feedback on the National Response Teams's (NRT) effectiveness, performance, strengths, weaknesses, etc., from organizations that request the NRT's investigative and crime scene services in responding to arson and explosives events. The information is used for internal audits that support the NRT's national-level forensics accreditation.

5. Obligation to respond: voluntary.

6. Total estimated number of respondents: 18 respondents.

7. Estimated time per respondent: 0.25 hours.

8. Frequency: once annually.

9. Total estimated annual time burden: 5 total hours.

10. Total estimated annual other costs burden: $0.

Revisions to This Information Collection

Information Collection (IC) OMB 1140-0091 is being revised to change the surveys sent by mail to emailed surveys, and now to online surveys. In addition, ATF has streamlined the invitation process. As a result of these changes, the time burden for individual respondents has decreased from .5 hours to .25 hours. In addition, the number of arson and explosives crime scene events was lower during the past three years, resulting in a decrease in the annual number of respondents, from 32 in 2022 to 18, a decrease of 14 respondents. These combined changes have resulted in a corresponding decrease in total hourly burden from 16 to five, a decrease of 11 hours. In addition, ATF has added a monetized value for the time burden, due to new OMB request, which has not been in previous ICRs.

Public Comments

ATF did not receive comments on this information collection during the 60-day notice and comment period.

If you need additional information, contact: Darwin Arceo, Department Clearance Officer, Enterprise Portfolio Management, Justice Management Division; United States Department of Justice; Two Constitution Square, 145 N Street NE, 4W-218 Washington, DC 20530.

Dated: February 18, 2026.
Darwin Arceo,
Department Clearance Officer for PRA, U.S. Department of Justice.

[FR Doc. 2026-03391 Filed 2-19-26; 8:45 am]

BILLING CODE 4410-FY-P